DEPARTMENT OF THE INTERIOR

Bureau of Reclamation

Colorado River Reservoir Operations: Development of Management Strategies for Lake Powell and Lake Mead Under Low Reservoir Conditions

AGENCY: Bureau of Reclamation, Interior.

ACTION: Notice to solicit comments and hold public meetings on the development of management strategies for Lake Powell and Lake Mead, including Lower Basin shortage guidelines, under low reservoir conditions.

SUMMARY: The Secretary of the Interior (Secretary) has directed the Bureau of Reclamation (Reclamation) to develop additional Colorado River management strategies to address operations of Lake Powell and Lake Mead under low reservoir conditions. It is anticipated that, among other potential elements, these strategies could identify those circumstances under which the Department of the Interior (Department) would reduce annual water deliveries, and the manner in which annual operations would be modified.

Dates and Addresses: Two public meetings will be held to solicit comments on the content, format, mechanism, and analysis to be considered during the development of management strategies for Lake Powell and Lake Mead under low reservoir conditions. Oral and written comments will be accepted at the public meetings to be held at the following locations:

• Tuesday, July 26, 2005-10 a.m. to 12 noon, Henderson Convention Center, Grand Ballroom, 200 South Water Street, Henderson, Nevada.

• Thursday, July 28, 2005-10 a.m. to 12 noon, Hilton Salt Lake City Center, Topaz Room, 255 South West Temple, Salt Lake City, Utah.

Written comments on the proposed development of these strategies may be sent by close of business on Wednesday, August 31, 2005, to: Regional Director, Bureau of Reclamation, Lower Colorado Region, Attention: BCOO-1000, P.O. Box 61470, Boulder City, Nevada 89006-1470, fax at 702-293-8156, or e-mail at strategies@lc.usbr.gov; and/or Regional Director, Bureau of Reclamation, Upper Colorado Region, Attention: UC-402, 125 South State Street, Salt Lake City, Utah 84318-1147, fax at 801-524-3858, or e-mail at strategies@uc.usbr.gov.

FOR FURTHER INFORMATION CONTACT: Terrance J. Fulp, Ph.D., at 702-293-8500 or e-mail at strategies@lc.usbr.gov; and/or Randall Peterson at 801-524-3633 or e-mail at strategies@uc.usbr.gov. If special assistance is required regarding accommodations for attendance at either of the public meetings, please call Nan Yoder at 702-293-8495, fax at 702-293-8156, or e-mail at nyoder@lc.usbr.gov no less than 5 working days prior to the applicable meeting(s).

SUPPLEMENTARY INFORMATION: In recent years the Department has undertaken a number of initiatives to improve the efficient and coordinated operation and management of the Colorado River. For example, a number of Indian water rights settlements have been enacted and implemented, while additional settlements are under active negotiation. Important programs have been developed in the Upper and Lower Basins to address conservation of endangered species. Scientific investigations are proceeding under the framework of the Glen Canyon Adaptive Management Program to study the impacts to and improve the values for which the Grand Canyon National Park and the Glen Canyon National Recreation Area were established. In 2003, water users in California executed agreements that will assist California to limit its use of water from the Colorado River to its normal year apportionment of 4.4 million acre-feet (maf).

More recently a new management challenge has emerged on the Colorado River. The Colorado River Basin has experienced the worst five-year drought in recorded history. Drought in the Basin has impacted system storage, while demands for Colorado River water supplies have continued to increase. During the period from October 1, 1999, to October 1, 2004, storage in Colorado River reservoirs fell from 55.7 maf to 29.7 maf.

In the future, low reservoir conditions may not be limited to drought periods as additional development of Colorado River water occurs. The Colorado River is of strategic importance in the southwestern United States for water supply, hydropower production, recreation, fish and wildlife habitat, and other benefits. In addition, the Republic of Mexico has an allocation to the waters of the Colorado River pursuant to a 1944 treaty with the United States.

In a May 2, 2005, letter to the Governors of the Colorado River Basin States, issued in the context of the 2005 Annual Operating Plan mid-year review, the Secretary directed Reclamation to develop additional strategies to improve coordinated management of the reservoirs in the Colorado River system. Pursuant to that direction, Reclamation conducted a public consultation workshop on May 26, 2005, in Henderson, Nevada, and has prepared this Federal Register notice. In order to assure the continued productive use of the Colorado River into the future, Reclamation is soliciting public comments on, at a minimum, the development of management strategies for the operation of Lake Powell and Lake Mead under low reservoir conditions.

It is the Department's intent that the development of additional management strategies, including Lower Basin Shortage Guidelines, will provide guidance to the Secretary's Annual Operating Plan decisions, and provide more predictability to water users throughout the Basin, particularly those in the Lower Division States of Arizona, California, and Nevada. For example, in 2001 the Department adopted Interim Surplus Guidelines (66 FR 7772) that are used by the Secretary in making annual determinations regarding “Normal” and “Surplus” conditions for the operation of Lake Mead. Among other provisions, these Guidelines have allowed the Department and entities in Arizona, California, and Nevada that rely on the Colorado River greater predictability in identifying when Colorado River water in excess of 7.5 maf will be available for use within these three states. In contrast, at this time the Department does not have detailed guidelines in place for annual determinations of releases from Lake Mead of less than 7.5 maf to water users in the three Lower Division States (often referred to as a “shortage” condition on the lower Colorado River). Therefore, water users who rely on the Colorado River in these states are not currently able to identify particular reservoir conditions under which the Secretary would release less than 7.5 maf for use on an annual basis. Nor are these water users able to identify the amount of any potential future annual reductions in water deliveries. By developing additional management strategies, these users would be better able to plan for periods of less than full water deliveries. Additional operational tools may also facilitate conservation of reservoir storage, thereby minimizing the adverse effects of long-term drought or low-reservoir conditions in the Colorado River Basin.

Over the past year, the seven Colorado River Basin States have been proactively discussing strategies to address the current system-wide drought in the Colorado River Basin. In addition, Reclamation has conducted detailed briefings for stakeholders in the Colorado River Basin and other interested entities regarding future scenarios for Colorado River operations. Reclamation will integrate available technical information in the upcoming development of additional management strategies for Colorado River operations.

Reclamation intends to utilize a public process during the development of management strategies for Lake Powell and Lake Mead under low reservoir conditions. By this notice, Reclamation invites all interested members of the general public, including the seven Colorado River Basin States, Indian Tribes, water and power contractors, environmental organizations, representatives of academic and scientific communities, representatives of the recreation industry, and other organizations and agencies to present oral and written comments concerning the content, format, mechanism, and analysis to be considered during the development of these proposed strategies.

Reclamation has not yet determined the appropriate level of National Environmental Policy Act (NEPA) documentation for the upcoming development of additional management strategies. However, to ensure timely consideration of technical information and public comment, Reclamation is proceeding, at this time, as if the development of additional management strategies would require preparation of an Environmental Impact Statement. Information received by Reclamation pursuant to this Federal Register notice and the upcoming public meetings will be analyzed in order to define the nature of any proposed federal actions, the level of appropriate NEPA documentation, and the need, if any, for additional scoping activities. In addition to NEPA documentation, other compliance activities, as appropriate, will be undertaken pursuant to applicable Federal law.

Public Disclosure

Written comments, including names and home addresses of respondents, will be made available for public review. Individual respondents may request that their home address be withheld from public disclosure, which will be honored to the extent allowable by law. There may be circumstances in which respondents' identity may also be withheld from public disclosure, as allowable by law. If you wish to have your name and/or address withheld, you must state this prominently at the beginning of your comment. All submissions from organizations, business, and from individuals identifying themselves as representatives or officials of organizations or businesses, will be made available for public disclosure in their entirety.

Dated: June 6, 2005.
Darryl Beckmann,
Deputy Regional Director—UC Region, Bureau of Reclamation.
Dated: June 7, 2005.
Robert W. Johnson,
Regional Director—LC Region, Bureau of Reclamation.

[FR Doc. 05-11776 Filed 6-14-05; 8:45 am]

BILLING CODE 4310-MN-P